DEPARTMENT OF LABOR

Employment and Training Administration

[TA-W-61,034, TA-W-61,034A, TA-W-61,034B]

American Identity, Inc., Orange City, IA; American Identity, Inc., Hawarden, IA; and American Identity, Inc., Marcus, IA; Notice of Termination of Investigation

Pursuant to Section 221 of the Trade Act of 1974, an investigation was initiated on February 27, 2007 in response to a petition filed by a company official on behalf of workers at American Identity, Inc., Orange City, Iowa (TA-W-61,034); Hawarden, Iowa (TA-W-61,034A) and Marcus, Iowa (TA-W-61,034B).

The petitioner has requested that the petition be withdrawn. Consequently, the investigation has been terminated.

Signed in Washington, DC, this 9th day of March 2007.
Elliott S. Kushner,
Certifying Officer, Division of Trade Adjustment Assistance.

[FR Doc. E7-4999 Filed 3-16-07; 8:45 am]

BILLING CODE 4510-FN-P